DEPARTMENT OF DEFENSE

Department of the Army; Corps of Engineers

Intent To Prepare an Environmental Impact Statement To Evaluate the Impacts Associated With a Previously Authorized Pier Extension in Strait of Georgia at Cherry Point, Near Ferndale, Whatcom County, WA

AGENCY: U.S. Army Corps of Engineers, Department of Defense.

ACTION: Notice of intent.

SUMMARY: The U.S. Army Corps of Engineers (Corps) Seattle District is the permitting agency and lead Federal agency for this action. The U.S Coast Guard (USCG) is cooperating agency. The Corps is announcing its intent to prepare an Environmental Impact Statement (EIS) pursuant to the National Environmental Policy Act (NEPA). The EIS will support the Corps' permit evaluation process under Section 10 of the Rivers and Harbors Act for the BP Cherry Point marine pier extension.

DATES: Submit comments by September 15, 2006.

Scoping meetings for this project will be held on:

1. September 5, 2005 from 7 p.m. to 9 p.m., Port Angeles, WA. An open house will be held from 6:30 p.m. to 7 p.m. prior to the meeting.

2. September 7, 2006 from 7 p.m. to 9:30 p.m., Anacortes, WA. An open house will be head from 6:30 p.m. to 7 p.m. prior to the meeting.

3. September 12, 2006 from 7 p.m. to 9 p.m., Ferndale, WA. An open house will be held from 6:30 p.m. to 7 p.m. prior to the meeting.

4. September 13, 2006 from 7 p.m. to 9 p.m., Seattle, WA. An open house will be held from 6:30 p.m. to 7 p.m. prior to the meeting.

ADDRESSES: Written comments on the scope of the EIS or requests for information should be sent to Mrs. Olivia Romano at the U.S. Army Corps of Engineers, Seattle Regulatory Branch, Post Office Box 3755, Seattle, Washington 98124-3755, or sent via e-mail to Olivia.h.romano@usace.army.mil.

The scoping meetings will be held at:

1. Port Angeles: The Port Angeles Public Library on 22108 Peabody Street, in Port Angeles, Washington.

2. Anacortes: The Seafarer's Memorial Park Building on 601 14th Street, in Anacortes, Washington.

3. Ferndale: The American Legion Hall on 5537 2nd Avenue, in Ferndale, Washington.

4. Seattle: The Federal Center South, 4735 East Marginal Way South, Seattle, Washington.

FOR FURTHER INFORMATION CONTACT: Mrs. Olivia Romano at the U.S. Army Corps of Engineers, Seattle Regulatory Branch, 4735 E. Marginal Way South, Seattle, Washington 98134, (206) 764-6960, or e-mail to Olivia.h.romano@usace.army.mil.

SUPPLEMENTARY INFORMATION: The Corps has been directed by Ninth Circuit Court of Appeals to complete an EIS on the impacts of the permitted pier extension, including vessel traffic study and risk of oil spills from potential increase in oil tanker traffic in Puget Sound and reevaluate the pier extension's potential violation of the Magnuson Amendment of the Marine Mammals Protection Act.

Proposed Action

To evaluate the potential environmental impacts for the continued operation of the pier extension (north wing) to the existing BP Cherry Point dock. The evaluation will include a vessel traffic study and oil spill risk analyses for the all vessels unloading and loading at the dock.

Preliminary Alternatives to the Proposed Action

The EIS will evaluate a range of alternatives including a No Action Alternative. The EIS will consider alternatives that may result from comments received during the agency and public scoping period. The EIS will also discuss alternatives considered and eliminated from further detailed study. The Corps will use this evaluation to determine compliance with Section 10 of Rivers and Harbors Act and compliance with Magnuson Amendment of Marine Mammals Protection Act.

EIS Scoping Process

The EIS process begins with the publication of this Notice of Intent. The scoping period will continue for 30 days after publication of this Notice of Intent and will close on September 15, 2006. During the scoping period the Corps invite Federal agencies, State and local governments, Native American Tribes, and the public to participate in the scoping process either by providing written comments or by attending the public scoping meetings scheduled for September 5, 6, 7, and 13, 2006 at the time and location indicated above. We have identified the following as probable major topics to be analyzed in depth in the Draft EIS: Oil spill impacts on aquatic resources, fish and wildlife habitat functions, threatened and endangered species impacts, surface water quality, and cumulative impacts. Both written and oral scoping comments will be considered in the preparation of the Draft EIS. Comments postmarked or received by e-mail after the specified date will be considered to the extent feasible.

The purpose of the scoping meeting is to assist the Corps and U.S. Coast Guard in defining issues, public concerns, alternatives, and the depth to which they will be evaluated in the EIS. The public scoping meeting will begin with a briefing on the existing BP dock and the vessel traffic study. Copies of the meeting handouts will be available to anyone unable to attend by contacting the Corps Seattle District as described in the FOR FURTHER INFORMATION CONTACT section. Following the initial presentation, Corps representatives will answer scope-related questions and accept comments.

EIS Preparation

Development of the Draft EIS will begin after the close of the public scoping period. The Draft EIS is expected to be available for public review in the fall of 2008.

Other Environmental Review and Consultations

To the fullest extent possible, the EIS will be integrated with analysis and consultation required by the Endangered Species Act of 1973, as amended (Pub. L. 93-205; 16 U.S.C. 1531 et seq.); the Magnuson-Stevens Fishery Conservation and Management Act, as amended (Pub. L. 94-265; 16 U.S.C. 1801, et seq.), the National Historic Preservation Act of 1966, as amended (Pub. L. 89-655; 16 U.S.C. 470, et seq.); the Fish and Wildlife Coordination Act of 1958, as amended (Pub. L. 85-624; 16 U.S.C 742a, et seq. and 661-666c); and the Clean Water Act of 1977, as amended (Pub. L. 92-500; 33 U.S.C. 1251, et seq.); and all applicable and appropriate Executive Orders.

Dated: August 10, 2006.
Michelle Walker,
Chief, Regulatory Branch, Seattle District.

[FR Doc. E6-13473 Filed 8-15-06; 8:45 am]

BILLING CODE 3710-ER-P